NATIONAL ARCHIVES AND RECORDS ADMINISTRATION

[NARA-2017-062]

Agency Information Collection Activities: Proposed Collection; Comment Request; Generic Clearance for the Collection of Qualitative Feedback on Agency Service Delivery

AGENCY: National Archives and Records Administration (NARA).

ACTION: Notice of a request for comments regarding a new information collection.

SUMMARY: As part of the Federal Government-wide ongoing effort to streamline how agencies request feedback from the public on services (also called “service delivery”), we are proposing to renew a generic information collection request (generic ICR) entitled Generic Clearance for Collecting Qualitative Feedback on Agency Services (previously entitled Generic Clearance for the Collection of Qualitative Feedback on Agency Service Delivery). This notice announces that we have submitted this generic ICR plan to OMB for renewed approval under the Paperwork Reduction Act and solicits comments on specific aspects of the collection plan.

DATES: OMB must receive written comments at the address below on or before October 12, 2017.

ADDRESSES: Send comments to Mr. Nicholas A. Fraser, desk officer for NARA, by mail to Office of Management and Budget; New Executive Office Building; Washington, DC 20503; by fax to 202-395-5167; or by email to Nicholas_A._Fraser@omb.eop.gov.

FOR FURTHER INFORMATION CONTACT: To request additional information, please contact Tamee Fechhelm by telephone at 301-837-1694 or by fax at 301-837-0319.

SUPPLEMENTARY INFORMATION: Pursuant to the Paperwork Reduction Act of 1995 (Public Law 104-13), we invite comments on: (a) Whether collecting this information is necessary for proper performance of the agency's functions, including whether the information will have practical utility; (b) the accuracy of our estimate of the information collection's burden on respondents; (c) ways to enhance the quality, utility, and clarity of the information we propose to collect; (d) ways to minimize the burden on respondents of collecting the information, including through the use of automated collection techniques or other forms of information technology; and (e) estimates of capital or start-up costs and costs of operation, maintenance, and purchase of services to provide information. Burden means the total time, effort, or financial resources people need to provide the information, including time to review instructions, process and maintain the information, search data sources, and respond.

Explanation of Generic ICRs

A generic ICR is a request for OMB to approve a plan for conducting more than one information collection using very similar methods when (1) we can evaluate the need for and the overall practical utility of the data in advance, as part of the review of the proposed plan, but (2) we cannot determine the details of the specific individual collections until a later time. Most generic clearances cover collections that are voluntary, low-burden (based on a consideration of total burden, total respondents, or burden per respondent), and uncontroversial. This notice, for example, describes a general plan to gather views from the public through a series of customer satisfaction surveys in which we ask the public about certain agency activities or services and how well we are providing them. As part of this plan, we construct, distribute, and analyze the surveys in a similar manner, but customize each survey for the type of service it is measuring.

Because we seek public comment on the plan, we do not need to seek public comment on each specific information collection that falls within the plan when we later develop the individual information collection. This saves the Government time and burden, and it streamlines our ability to gather performance feedback. However, we still submit each specific information collection (e.g., each survey) to OMB for review, in accordance with the terms of clearance set upon approval of the plan. OMB assesses the individual surveys for PRA requirements, ensures that they fit within the scope of this generic ICR plan, and includes the specific surveys in the PRA public docket prior to our use of them.

Specifics on This Information Collection

Title: Generic Clearance for Collecting Qualitative Feedback on Agency Services.

Description: This generic information collection request allows us to gather qualitative customer and stakeholder feedback in an efficient, timely manner as part of our commitment to improve service delivery. By qualitative feedback, we mean information that provides useful insights into customers' or stakeholders' perceptions and opinions, but not statistical surveys that yield quantitative results that we could generalize to the population. Qualitative feedback provides insights into perceptions, experiences, and expectations, provides an early warning of issues with service, or focuses attention on areas where communication, training, or operational changes might improve delivery of products or services. We will not use this qualitative generic clearance for quantitative information collections designed to yield reliably actionable results, such as monitoring trends over time or documenting program performance.

Purpose: Collecting this information allows us to receive ongoing, collaborative, and actionable communications from our customers and stakeholders. We use customer feedback to plan efforts to improve or maintain the quality of service we offer to the public. If we do not collect this information, vital feedback from customers and stakeholders on our services will be unavailable. The feedback we collect about our services include assessments of timeliness, appropriateness, accuracy of information, plain language, courtesy, efficiency, and issue resolution.

Conditions: We will submit a specific information collection for approval under this generic clearance only if it meets the following conditions:

• The collection is voluntary;

• The collection is low-burden for respondents (based on considerations of total burden hours, total number of respondents, or burden-hours per respondent) and is low-cost for both the respondents and the Federal Government;

• The collection is non-controversial and does not raise issues of concern to other Federal agencies;

• It is targeted to solicit opinions from respondents who have experience with the program or may have experience with the program in the near future;

• Personally identifiable information (PII) is collected only to the extent necessary and is not retained;

• Information gathered will be used only internally for general service improvement and program management purposes and is not intended for release outside of the agency;

• Information gathered will not be used for the purpose of substantially informing influential policy decisions; and

• Information gathered will yield qualitative information; the collections will not be designed or expected to yield statistically reliable results or used as though the results are generalizable to the population of study.

As a general matter, information collections under this generic collection request will not result in any new system of records containing privacy information and will not ask questions of a sensitive nature, such as sexual behavior and attitudes, religious beliefs, and other matters that are commonly considered private.

Current actions: We currently have 18 surveys that have been approved by OMB under this generic ICR that are ongoing and will continue through the renewal period. Some of these surveys include the OGIS Customer Service Assessment, NPRC Survey of Customer Satisfaction, Training and Event Evaluation, Public Vaults Exhibition Survey, Boeing Learning Center Visit Drivers, History Hub Survey, Agency Assistance Project Feedback Survey, National Archives and Records Administration Customer Survey, and the National Outreach Program Initiative (NOPI) Master Survey.

Type of review: Regular.

Potential affected public: Anyone who uses NARA's services, programs, or facilities, including requesting personnel records, requesting historical, genealogical, or other archival records, using research rooms, requesting research or asking research questions, ordering and receiving reproductions, using FOIA dispute resolution services, using records management services, working with records management schedules, renting facilities, attending exhibitions, events, or open houses, using learning centers or educational materials, attending training, etc. This can include individuals and households, businesses and organizations, or state, local, or Tribal governments.

Estimated number of respondents: We currently have approximately 25,000 respondents annually to our 18 surveys. We are completely restructuring one of the surveys, the NPRC Survey of Customer Satisfaction, and migrating it from paper to online form. We anticipate that this will substantially increase the number of potential respondents to that survey from about 10,000 to 100,000 potential respondents. In addition, we expect to add and remove some additional surveys during the next three years, which might also result in a net decrease or increase in potential respondents. Therefore, we are projecting that between 120,000 and 150,000 respondents annually.

Projected average estimates for the next three years:

Average expected annual number of surveys: 12.

Average projected number of respondents per survey: 12,994.

Annual responses per respondent: 1.

Frequency of response: Once per request.

Average minutes per response: 10-30 minutes, depending on the survey.

Burden hours: 20,000-25,000.

Swarnali Haldar,
Executive for Information Services/CIO.

[FR Doc. 2017-19330 Filed 9-11-17; 8:45 am]

BILLING CODE 7515-01-P